DEPARTMENT OF TRANSPORTATION

Federal Aviation Administration

14 CFR Part 39

[Docket No. FAA-2025-0624; Project Identifier MCAI-2024-00628-T; Amendment 39-23148; AD 2025-19-08]

RIN 2120-AA64

Airworthiness Directives; Airbus SAS Airplanes

AGENCY: Federal Aviation Administration (FAA), DOT.

ACTION: Final rule.

SUMMARY: The FAA is adopting a new airworthiness directive (AD) for all Airbus SAS Model A319-111, -112, -113, -114, -115, -131, -132, and -133 airplanes; Model A320-211, -212, -214, -216, -231, -232, and -233 airplanes; and Model A321-211, -212, -213, -231, and -232 airplanes. This AD was prompted by a report that cracks were found following fatigue tests for the new lower wing cover material on airplanes equipped with sharklets. This AD requires repetitive inspections for discrepancies and corrective action. The FAA is issuing this AD to address the unsafe condition on these products.

DATES: This AD is effective December 30, 2025.

The Director of the Federal Register approved the incorporation by reference of a certain publication listed in this AD as of December 30, 2025.

ADDRESSES:

AD Docket: You may examine the AD docket at regulations.gov under Docket No. FAA-2025-0624; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-0624.

FOR FURTHER INFORMATION CONTACT: Tim Dowling, Aviation Safety Engineer, FAA, 2200 South 216th St., Des Moines, WA 98198; phone: 206-231-3667; email: timothy.p.dowling@faa.gov.

SUPPLEMENTARY INFORMATION:

Background

The FAA issued a notice of proposed rulemaking (NPRM) to amend 14 CFR part 39 by adding an AD that would apply to all Airbus SAS Model A319-111, -112, -113, -114, -115, -131, -132, and -133 airplanes; Model A320-211, -212, -214, -216, -231, -232, and -233 airplanes; and Model A321-211, -212, -213, -231, and -232 airplanes. The NPRM was published in the Federal Register on April 16, 2025 (90 FR 15942). The NPRM was prompted by AD 2024-0201R1, dated December 2, 2024 (EASA AD 2024-0201R1) (also referred to as the MCAI), issued by EASA, which is the Technical Agent for the Member States of the European Union. The MCAI states that cracks were found following fatigue tests for the new lower wing cover material on airplanes equipped with sharklets. This condition, if not detected and corrected, could reduce the structural integrity of the outer wing.

In the NPRM, the FAA proposed to require repetitive inspections for discrepancies and corrective action, as specified in EASA AD 2024-0201R1. The FAA is issuing this AD to address the unsafe condition on these products.

You may examine the MCAI in the AD docket at regulations.gov under Docket No. FAA-2025-0624.

Discussion of Final Airworthiness Directive

Comments

The FAA received comments from an individual who supported the NPRM and had an additional comment.

The FAA received additional comments from Delta Air Lines (Delta). The following presents the comments received on the NPRM and the FAA's response.

Request To Require Inspectors From Different Institutions

An individual suggested that the people doing the inspections specified in the proposed AD be from different institutions, e.g., Boeing, the FAA, the Civil Aviation Authority (CAA), and the aviation company using the airplane. The commenter suggested the team would have to work together to make sure the airplane was safe and agree on the safety issue before the airplane would be allowed to fly.

The FAA agrees to clarify. FAA regulations (14 CFR 43.3) stipulate who can perform maintenance on or alter an airplane on the U.S. registry, including inspections required by an AD. AD actions must be performed by people holding certain certificates or having specialized training that provides them the knowledge necessary to properly inspect and repair airplanes. In addition, FAA regulations (14 CFR 43.7) stipulate who is authorized to approve an airplane for return to service after maintenance, preventive maintenance, rebuilding, or alteration, including inspections required by an AD. No change to this AD is necessary.

Request To Revise the Reporting Requirement

Delta requested that the FAA revise paragraph (h)(4) of the proposed AD to not require an inspection report if no discrepancy is found, or if any discrepancy is found and Airbus SAS's EASA Design Organization Approval (DOA) is contacted for repair instructions. Delta noted that the service information referenced in EASA AD 2024-0201R1 specifies to contact Airbus if there are any findings. Delta also noted that the provisions of paragraph (h)(5) of the proposed AD would allow for approval of repair instructions for any discrepancies (i.e., approved repair instructions) by the FAA, EASA, or Airbus SAS's EASA DOA, and that this option allows operators to seek the FAA's approval of repair instructions in lieu of only Airbus. Delta stated there is no need to report damage to Airbus on a specific report form if Airbus is contacted for repair instructions because the data is required to be provided to Airbus for approval of the repair instructions. Delta also stated that Airbus should know that if no repair is requested, then either no damage was found or the operator obtained approval from the FAA and should report the inspection findings to Airbus.

The FAA agrees it is unnecessary to submit an inspection report if no discrepancies are found, and that reporting inspection results to Airbus would also be unnecessary regardless of whether Airbus SAS's EASA DOA, the FAA, or EASA was contacted for repair instructions. The FAA has re-evaluated the proposed reporting requirement and determined this AD does not need to require submitting a report for all inspection results, which would include reporting any and no findings. The FAA has revised the AD to remove the proposed paragraph (h)(4) and references to the reporting requirement in the preamble and cost estimate.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed EASA AD 2024-0201R1, which specifies procedures for repetitive special detailed inspections (SDIs) for discrepancies (cracking) of the bottom wing surface area between rib 19 and rib 21, forward of stringer 8, both left-hand (LH) and right-hand (RH) sides, and, depending on findings, accomplishment of applicable corrective action (contacting Airbus for repair instructions). This material is reasonably available because the interested parties have access to it through their normal course of business or by the means identified in the ADDRESSES section.

Costs of Compliance

The FAA estimates that this AD affects 1,924 airplanes of U.S. registry. The FAA estimates the following costs to comply with this AD:

Estimated Costs for Required Actions
Labor cost | Parts cost | Cost per product | Cost on U.S. operators
6 work-hours × $85 per hour = $510 | None | $510 | $981,240

The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-19-08 Airbus SAS: Amendment 39-23148; Docket No. FAA-2025-0624; Project Identifier MCAI-2024-00628-T.

(a) Effective Date

This airworthiness directive (AD) is effective December 30, 2025.

(b) Affected ADs

None.

(c) Applicability

This AD applies to all Airbus SAS Model airplanes, certificated in any category, as identified in paragraphs (c)(1) through (3) of this AD.

(1) Model A319-111, -112, -113, -114, -115, -131, -132, and -133 airplanes.

(2) Model A320-211, -212, -214, -216, -231, -232, and -233 airplanes.

(3) Model A321-211, -212, -213, -231, and -232 airplanes.

(d) Subject

Air Transport Association (ATA) of America Code 57, Wings.

(e) Unsafe Condition

This AD was prompted by a report that cracks were found following fatigue tests for the new lower wing cover material on airplanes equipped with sharklets. The FAA is issuing this AD to address cracking in the lower wing cover material. The unsafe condition, if not addressed, could reduce the structural integrity of the outer wing.

(f) Compliance

Comply with this AD within the compliance times specified, unless already done.

(g) Requirements

Except as specified in paragraph (h) of this AD: Comply with all required actions and compliance times specified in, and in accordance with, European Union Aviation Safety Agency (EASA) AD 2024-0201R1, dated December 2, 2024 (EASA AD 2024-0201R1).

(h) Exceptions to EASA AD 2024-0201R1

(1) Where EASA AD 2024-0201R1 refers to its effective date, this AD requires using the effective date of this AD.

(2) Where EASA AD 2024-0201R1 refers to “04 November 2024 [the effective date of the original issue of this AD],” this AD requires using the effective date of this AD.

(3) This AD does not adopt the “Remarks” section of EASA AD 2024-0201R1.

(4) Where paragraph (3) of EASA AD 2024-0201R1 specifies if “discrepancies are detected, as identified in the AOT, before next flight, contact Airbus for approved repair instructions and, within the compliance time(s) specified therein, accomplish those instructions accordingly”, this AD requires replacing that text with “any discrepancy is detected, as identified in the AOT, the discrepancy must be repaired before further flight using a method approved by the Manager, AIR-520, Continued Operational Safety Branch, FAA; or EASA; or Airbus SAS's EASA Design Organization Approval (DOA). If approved by the DOA, the approval must include the DOA-authorized signature”.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA DOA. If approved by the DOA, the approval must include the DOA-authorized signature.

(3) Required for Compliance (RC): Except as required by paragraph (i)(2) of this AD, if any material referenced in EASA AD 2024-0201R1 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(j) Additional Information

For more information about this AD, contact Tim Dowling, Aviation Safety Engineer, FAA, 2200 South 216th St., Des Moines, WA 98198; phone: 206-231-3667; email: timothy.p.dowling@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0201R1, dated December 2, 2024.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on September 24, 2025.
Lona C. Saccomando,
Acting Deputy Director, Integrated Certificate Management Division, Aircraft Certification Service.

[FR Doc. 2025-20925 Filed 11-24-25; 8:45 am]

BILLING CODE 4910-13-P